DEPARTMENT OF ENERGY

Federal Energy Regulatory Commission

Combined Notice of Filings #1

Take notice that the Commission received the following exempt wholesale generator filings:

Docket Numbers: EG14-58-000.

Applicants: Shannon Wind, LLC.

Description: Self-Certification of Shannon Wind, LLC.

Filed Date: 5/23/14.

Accession Number: 20140523-5127.

Comments Due: 5 p.m. ET 6/13/14.

Take notice that the Commission received the following electric rate filings:

Docket Numbers: ER14-1290-002.

Applicants: Midcontinent Independent System Operator, Inc.

Description: 2014-05-23_Schedule 34 Amendment Filing to be effective 4/8/2014.

Filed Date: 5/23/14.

Accession Number: 20140523-5057.

Comments Due: 5 p.m. ET 6/13/14.

Docket Numbers: ER14-1363-001; ER10-3195-002; ER10-3194-002.

Applicants: Kendall Green Energy LLC, MATEP Limited Partnership, MATEP LLC.

Description: Additional Supplement to February 28, 2014 Notice of Change in Status of Kendall Green Energy LLC, et al.

Filed Date: 5/22/14.

Accession Number: 20140522-5170.

Comments Due: 5 p.m. ET 6/12/14.

Docket Numbers: ER14-1422-001.

Applicants: RockTenn CP, LLC.

Description: RockTenn CP Compliance Filing to be effective 5/16/2014.

Filed Date: 5/23/14.

Accession Number: 20140523-5125.

Comments Due: 5 p.m. ET 6/13/14.

Docket Numbers: ER14-1620-001.

Applicants: AEP Generation Resources Inc.

Description: Ohio Power Supply Agreement Amendment No. 2 Amd to be effective 1/1/2014.

Filed Date: 5/23/14.

Accession Number: 20140523-5151.

Comments Due: 5 p.m. ET 6/13/14.

Docket Numbers: ER14-1776-002.

Applicants: Broken Bow Wind II, LLC.

Description: Broken Bow Wind II, LLC Market-Based Rates Tariff Second Supplement to be effective 7/1/2014.

Filed Date: 5/23/14.

Accession Number: 20140523-5086.

Comments Due: 5 p.m. ET 6/6/14.

Docket Numbers: ER14-1969-001.

Applicants: Public Service Company of Colorado.

Description: 2014-5-23 Wind Integration-Rev Exh 20 to be effective 8/1/2014.

Filed Date: 5/23/14.

Accession Number: 20140523-5072.

Comments Due: 5 p.m. ET 6/13/14.

Docket Numbers: ER14-2019-000.

Applicants: Southern California Edison Company.

Description: Amended LGIA with Solar Star XX, LLC to be effective 7/23/2014.

Filed Date: 5/23/14.

Accession Number: 20140523-5001.

Comments Due: 5 p.m. ET 6/13/14.

Docket Numbers: ER14-2020-000.

Applicants: Southern California Edison Company.

Description: Amended LGIA with Solar Star XIX, LLC to be effective 7/23/2014.

Filed Date: 5/23/14.

Accession Number: 20140523-5002.

Comments Due: 5 p.m. ET 6/13/14.

Docket Numbers: ER14-2021-000.

Applicants: Southern California Edison Company.

Description: GIA & Distribution Service Agreement with Sestina Solar II, LLC to be effective 5/24/2014.

Filed Date: 5/23/14.

Accession Number: 20140523-5003.

Comments Due: 5 p.m. ET 6/13/14.

Docket Numbers: ER14-2022-000.

Applicants: Midcontinent Independent System Operator, Inc.

Description: Request for Waiver of Midcontinent Independent System Operator, Inc.

Filed Date: 5/22/14.

Accession Number: 20140522-5168.

Comments Due: 5 p.m. ET 6/12/14.

Docket Numbers: ER14-2023-000.

Applicants: Calpine Corporation.

Description: Request for Waiver and Request for Shortened Comment Period and Expedited consideration of Calpine Corporation.

Filed Date: 5/22/14.

Accession Number: 20140522-5171.

Comments Due: 5 p.m. ET 6/2/14.

Docket Numbers: ER14-2024-000.

Applicants: PJM Interconnection, L.L.C.

Description: First Revised Service Agreement No. 3201; Queue No. W3-076 to be effective 4/30/2014.

Filed Date: 5/23/14.

Accession Number: 20140523-5029.

Comments Due: 5 p.m. ET 6/13/14.

Docket Numbers: ER14-2025-000.

Applicants: Southwest Power Pool, Inc.

Description: 2825R2 KMEA and Westar Energy Meter Agent Agreement to be effective 5/1/2014.

Filed Date: 5/23/14.

Accession Number: 20140523-5036.

Comments Due: 5 p.m. ET 6/13/14.

Docket Numbers: ER14-2026-000.

Applicants: PJM Interconnection, L.L.C.

Description: First Revised Service Agreement No. 3204; Queue No. W3-149 to be effective 4/30/2014.

Filed Date: 5/23/14.

Accession Number: 20140523-5047.

Comments Due: 5 p.m. ET 6/13/14.

Docket Numbers: ER14-2027-000.

Applicants: PJM Interconnection, L.L.C.

Description: First Revised Service Agreement No. 3237; Queue No. W4-093 to be effective 4/30/2014.

Filed Date: 5/23/14.

Accession Number: 20140523-5048.

Comments Due: 5 p.m. ET 6/13/14.

Docket Numbers: ER14-2028-000.

Applicants: Midcontinent Independent System Operator, Inc., Entergy Services, Inc.

Description: 2014-05-23_EAI-AECC JPZ Agreement to be effective 6/1/2014.

Filed Date: 5/23/14.

Accession Number: 20140523-5061.

Comments Due: 5 p.m. ET 6/13/14.

Docket Numbers: ER14-2029-000.

Applicants: Midcontinent Independent System Operator, Inc., Entergy Services, Inc.

Description: 2014-05-23_EGSL-ELL-ENOI Amended JPZ to be effective 6/1/2014.

Filed Date: 5/23/14.

Accession Number: 20140523-5062.

Comments Due: 5 p.m. ET 6/13/14.

Docket Numbers: ER14-2030-000.

Applicants: Southwest Power Pool, Inc.

Description: 2872 Pleasant Hill Wind/SPS Facilities Construction Agreement to be effective 4/30/2014.

Filed Date: 5/23/14.

Accession Number: 20140523-5082.

Comments Due: 5 p.m. ET 6/13/14.

Docket Numbers: ER14-2031-000.

Applicants: Southwest Power Pool, Inc.

Description: 2465 Owl Feather War Bonnet, LLC GIA Cancellation to be effective 4/29/2014.

Filed Date: 5/22/14.

Accession Number: 20140522-5173.

Comments Due: 5 p.m. ET 6/12/14.

Docket Numbers: ER14-2032-000.

Applicants: California Independent System Operator Corporation.

Description: 2014-05-22_Vernon_MSSA to be effective 7/23/2014.

Filed Date: 5/23/14.

Accession Number: 20140523-5084.

Comments Due: 5 p.m. ET 6/13/14.

Docket Numbers: ER14-2033-000.

Applicants: California Independent System Operator Corporation.

Description: 2014-05-22_IID_APSA to be effective 7/22/2014.

Filed Date: 5/23/14.

Accession Number: 20140523-5129.

Comments Due: 5 p.m. ET 6/13/14.

Docket Numbers: ER14-2034-000.

Applicants: Nevada Power Company.

Description: Rate Schedule No. 143 Concurrence in CAISO RS No. 72 Amendment to ABAOA to be effective 6/11/2014.

Filed Date: 5/23/14.

Accession Number: 20140523-5146.

Comments Due: 5 p.m. ET 6/13/14.

Docket Numbers: ER14-2035-000.

Applicants: Nevada Power Company.

Description: Rate Schedule Nos. 76 & 77 Concurrence in SCE Amended _Restated RS Nos. 424_267 to be effective 1/1/2014.

Filed Date: 5/23/14.

Accession Number: 20140523-5147.

Comments Due: 5 p.m. ET 6/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2014.
Nathaniel J. Davis, Sr.,
Deputy Secretary.

[FR Doc. 2014-12863 Filed 6-3-14; 8:45 am]

BILLING CODE 6717-01-P